DEPARTMENT OF TRANSPORTATION

Federal Aviation Administration

14 CFR Part 39

[Docket No. 2000-NM-99-AD; Amendment 39-11713; AD 2000-07-51]

RIN 2120-AA64

Airworthiness Directives; McDonnell Douglas Model 717-200 Series Airplanes

AGENCY: Federal Aviation Administration, DOT.

ACTION: Final rule; request for comments.

SUMMARY: This document publishes in the Federal Register an amendment adopting airworthiness directive (AD) 2000-07-51 that was sent previously to all known U.S. owners and operators of McDonnell Douglas Model 717-200 series airplanes by individual notices. This AD requires coiling and stowing of electrical wires between the glareshield control panel and the Integrated Standby Instrument System; and revising the abnormal procedures of the Procedures section of the Airplane Flight Manual to include procedures for identifying and pulling certain circuit breakers if the altimeter Captain's Primary Flight Display (PFD) data become unreliable. This action is prompted by a report of two incidents in which an intermittent loss of altitude data occurred simultaneously on the Captain's PFD, First Officer's PFD, and the Integrated Standby Instrument System (ISIS) altitude display due to a voltage drop in the power distribution control unit. The actions specified by this AD are intended to prevent loss of all altitude information and subsequent essential navigation data for continued safe flight and landing.

DATES: Effective May 10, 2000, to all persons except those persons to whom it was made immediately effective by emergency AD 2000-07-51, issued April 1, 2000, which contained the requirements of this amendment.

The incorporation by reference of certain publications listed in the regulations is approved by the Director of the Federal Register as of May 10, 2000.

Comments for inclusion in the Rules Docket must be received on or before July 5, 2000.

ADDRESSES: Submit comments in triplicate to the Federal Aviation Administration (FAA), Transport Airplane Directorate, ANM-114, Attention: Rules Docket No. 2000-NM-99-AD, 1601 Lind Avenue, SW., Renton, Washington 98055-4056.

The applicable service information may be obtained from Boeing Commercial Aircraft Group, Long Beach Division, 3855 Lakewood Boulevard, Long Beach, California 90846, Attention: Technical Publications Business Administration, Dept. C1-L51 (2-60). This information may be examined at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

FOR FURTHER INFORMATION CONTACT: Thomas Phan, Aerospace Engineer, Systems and Equipment Branch, ANM-130L, FAA, Transport Airplane Directorate, Los Angeles Aircraft Certification Office, 3960 Paramount Boulevard, Lakewood, California 90712-4137; telephone (562) 627-5342; fax (562) 627-5210.

SUPPLEMENTARY INFORMATION: On April 1, 2000, the FAA issued emergency AD 2000-07-51, which is applicable to all McDonnell Douglas Model 717-200 series airplanes.

The FAA has received a report of two incidents in which an intermittent loss of altitude data occurred simultaneously on the Captain's Primary Flight Display (PFD), First Officer's PFD, and the Integrated Standby Instrument System (ISIS) altitude display due to a voltage drop in the power distribution control unit. Additional intermittent loss of cockpit indications included the glareshield control panel data, navigation data, flight management computer mismatch annunciation, autopilot disconnect, and autothrottle disconnect. In both cases, the airspeed and attitude indication remained operational. The flights continued on to their destination without further incident. This condition, if not corrected, could result in loss of all altitude information and subsequent essential navigation data for continued safe flight and landing.

Explanation of Relevant Service Information

The FAA has reviewed and approved Boeing Alert Service Bulletin 717-34A0002, dated March 30, 2000, which describes procedures for coiling and stowing of electrical wires between the glareshield control panel and the ISIS.

The FAA also has reviewed and approved Boeing Interim Operating Procedure (IOP) 2-17, dated March 31, 2000, which describes procedures for identifying and pulling certain circuit breakers if the altimeter primary flight display data (PFD) become unreliable.

Explanation of Requirements of the Rule

Since the unsafe condition described is likely to exist or develop on other airplanes of the same type design, the FAA issued emergency AD 2000-07-51 to prevent loss of all altitude information and subsequent essential navigation data for continued safe flight and landing. The AD requires coiling and stowing of electrical wires between the glareshield control panel and the Integrated Standby Instrument System; and revising the abnormal procedures of the Procedures section of the Airplane Flight Manual to include procedures for identifying and pulling certain circuit breakers if the altimeter PFD data become unreliable. The actions are required to be accomplished in accordance with the alert service bulletin and IOP previously described.

Interim Action

This is considered to be interim action until final action is identified, at which time the FAA may consider additional rulemaking.

Determination of Rule's Effective Date

Since a situation exists that requires the immediate adoption of this regulation, it is found that notice and opportunity for prior public comment hereon are impracticable, and that good cause exists for making this AD effective in less than 30 days.

Since it was found that immediate corrective action was required, notice and opportunity for prior public comment thereon were impracticable and contrary to the public interest, and good cause existed to make the AD effective immediately by individual notices issued on April 1, 2000, to all known U.S. owners and operators of McDonnell Douglas Model 717-200 series airplanes. These conditions still exist, and the AD is hereby published in the Federal Register as an amendment to section 39.13 of the Federal Aviation Regulations (14 CFR 39.13) to make it effective to all persons.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-99-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-07-51 McDonnell Douglas: Amendment 39-11713. Docket 2000-NM-99-AD.

Applicability: All Model 717-200 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent loss of all altitude information and subsequent essential navigation data for continued safe flight and landing, accomplish the following:

(a) Prior to further flight, coil and stow the electrical wires between the glareshield control panel and the Integrated Standby Instrument System in accordance with Boeing Alert Service Bulletin 717-34A0002, dated March 30, 2000.

(b) Prior to further flight, revise the abnormal procedures of the Procedures section of the FAA-approved Airplane Flight Manual (AFM) to include procedures for identifying and pulling certain circuit breakers. This must be accomplished by inserting Boeing Interim Operating Procedure 2-17, dated March 31, 2000, into the AFM.

Alternative Methods of Compliance

(c) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Boeing Alert Service Bulletin 717-34A0002, dated March 30, 2000; and Boeing Interim Operating Procedure 2-17, dated March 31, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

(f) This amendment becomes effective on May 10, 2000, to all persons except those persons to whom it was made immediately effective by emergency AD 2000-07-51, issued on April 1, 2000, which contained the requirements of this amendment.

Issued in Renton, Washington, on April 27, 2000.
Donald L. Riggin,
Acting Manager, Transport Airplane Directorate, Aircraft Certification Service.

[FR Doc. 00-11059 Filed 5-4-00; 8:45 am]

BILLING CODE 4910-13-U